DEPARTMENT OF JUSTICE

Morton International, Inc.; Consent Judgment

In accordance with Departmental policy, 28 CFR 50.7, notice is hereby given that on October 26, 2000 a proposed Consent Decree in United States and State of Mississippi v. Morton International, Inc., Civil Action No. 1:00CV501 (BrR) was lodged with the United States District Court for the Southern District of Mississippi, Biloxi Division.

In this action the United States and State of Mississippi allege that the Morton International, Inc. (hereafter Morton or defendant) is liable under the Solid Waste Disposal Act, as amended by the Resource Conservation and Recovery Act (RCRA), the Safe Drinking Water Act (SDWA), the Clean Water Act (CWA), the Clean Air Act (CAA), the Comprehensive Environmental Response, Compensation and Liability Act (CERCLA), the Emergency Planning and Community Right-to-Know Act (EPCRA), and the Mississippi Solid Waste Disposal Law of 1974, the Mississippi Air and Water Pollution Control Law, and the organic act of the Commission and of the Mississippi Department of Environmental Quality (MDEQ) for penalties and injunctive relief in connection with the defendant's manufacturing facility located in Moss Point, Jackson County, Mississippi.

This consent decree represents a settlement between the United States, State of Mississippi and Morton. The consent decree requires Morton to: (1) Pay a penalty of $20 million, with $10 million being paid to the United States and $10 million being paid to the State of Mississippi, (2) perform Supplemental Environmental Projects (SEPs) valued at $16 million, (3) conduct a comprehensive analysis of conditions at the Facility, and (4) perform, if necessary, corrective measures at the Facility. In addition, the consent decree provides for audits to be conducted by a third party or parties at Morton chemical plants acquired by Rohm & Haas in 1999.

The SEPs include a Plant SEP which requires Morton to reduce or eliminate pollutants and to strive to terminate injection into deep wells as a method of disposal, a community SEP which provides for the rehabilitation or replacement of lateral sewer lines in the City of Moss Point, Mississippi, and the funding of a “Green Chemistry” project at the University of Southern Mississippi's School of Polymer Science. The Green Chemistry project is intended to develop architectural coatings which contain plant oils rather than volatile organic compounds. The community lateral line project will address inflow and infiltration which contributes to sewage overflows that plague Moss Point.

The Department of Justice will receive for a period of thirty (30) days from the date of this publication comments relating to the proposed Second Consent Decree. Comments should be addressed to the Assistant Attorney General for the Environment and natural resources Division, U.S. Department of Justice, P.O. box 7611, Washington, D.C. 20044, and should refer to United States and State of Mississippi v. Morton International, Inc., D.J. Ref. 90-7-1-06413. Commenters may request an opportunity for a public meeting in the affected area, in accordance with Section 7003(d) of the Resource Conservation and Recovery Act (“RCRA”), 42 U.S.C. 6973(d).

The proposed Consent Decree may be examined at the Office of the United States Attorney, Southern District of Mississippi, 808 Vieux Marche, 2nd Floor, Biloxi, Mississippi 39501; and at Region 4, Office of the Environmental Protection Agency, Atlanta Federal Center, 61 Forsyth Street, S.W., Atlanta, Georgia 30303. A copy of the proposed Consent Decree may be obtained by mail from the Department of Justice Consent Decree Library, P.O. box 7611, Washington, D.C. 20044. In requesting a copy, please enclose a check in the amount of $26.25 (without exhibits), $77.75 (with exhibits) (25 cents per page reproduction cost) payable to the Treasurer of the United States.

Walker Smith,
Deputy Chief, Environment and Natural Resources Division.

[FR Doc. 00-29291 Filed 11-15-00; 8:45 am]

BILLING CODE 4410-15-M